DEPARTMENT OF TRANSPORTATION

Surface Transportation Board

[STB Docket No. AB-383 (Sub-No. 5X)]

Wisconsin & Southern Railroad Co.—Abandonment Exemption—in Milwaukee County, WI

On April 19, 2007, as supplemented on May 7, 2007, the Wisconsin & Southern Railroad Co. (WSOR) filed with the Board a petition under 49 U.S.C. 10502 for exemption from the provisions of 49 U.S.C. 10903 to abandon an approximately 2.41-mile line of railroad, extending from milepost 94.35, east of N. 24th Street, to milepost 96.76, west of N. Richards Street, known as the Nut Line, in the cities of Milwaukee and Glendale, in Milwaukee County, WI.¹ The line traverses United States Postal Service Zip Codes 53209 and 53212, and includes no stations.

¹ By letter filed on May 11, 2007, WSOR's counsel confirmed information supplied by counsel on May 7, 2007. Because the petition was thus complete on May 7, 2007, the filed date will be deemed to be May 7, 2007, and all deadlines will be calculated from that date.

The line does not contain federally granted rights-of-way. Any documentation in WSOR's possession will be made available promptly to those requesting it.

The interest of railroad employees will be protected by the conditions set forth in Oregon Short Line R. Co.—Abandonment—Goshen, 360 I.C.C. 91 (1979).

By issuing this notice, the Board is instituting an exemption proceeding pursuant to 49 U.S.C. 10502(b). A final decision will be issued by August 24, 2007.

Any OFA under 49 CFR 1152.27(b)(2) will be due no later than 10 days after service of a decision granting the petition for exemption. Each OFA must be accompanied by a $1,300 filing fee. See 49 CFR 1002.2(f)(25).

All interested persons should be aware that, following abandonment of rail service and salvage of the line, the line may be suitable for other public use, including interim trail use. Any request for a public use condition under 49 CFR 1152.28 or for trail use/rail banking under 49 CFR 1152.29 will be due no later than June 14, 2007. Each trail use request must be accompanied by a $200 filing fee. See 49 CFR 1002.2(f)(27).

All filings in response to this notice must refer to STB Docket No. AB-383 (Sub-No. 5X), and must be sent to: (1) Surface Transportation Board, 395 E Street, S.W., Washington, DC 20423-0001; and (2) John D. Heffner, John D. Heffner, PLLC, 1920 N Street, NW., Suite 800, Washington, DC 20036. Replies to the petition are due on or before June 14, 2007.

Persons seeking further information concerning abandonment procedures may contact the Board's Office of Public Services at (202) 245-0230 or refer to the full abandonment or discontinuance regulations at 49 CFR part 1152. Questions concerning environmental issues may be directed to the Board's Section of Environmental Analysis (SEA) at (202) 245-0305. [Assistance for the hearing impaired is available through the Federal Information Relay Service (FIRS) at 1-800-877-8339.]

An environmental assessment (EA) (or environmental impact statement (EIS), if necessary) prepared by SEA will be served upon all parties of record and upon any agencies or other persons who commented during its preparation. Other interested persons may contact SEA to obtain a copy of the EA (or EIS). EAs in these abandonment proceedings normally will be made available within 60 days of the filing of the petition. The deadline for submission of comments on the EA will generally be within 30 days of its service.

Board decisions and notices are available on our Web site at http://www.stb.dot.gov.

Decided: May 11, 2007.
By the Board, David M. Konschnik, Director, Office of Proceedings.
Vernon A. Williams,
Secretary.

[FR Doc. E7-9491 Filed 5-18-07; 8:45 am]

BILLING CODE 4915-01-P